INTERNATIONAL TRADE COMMISSION

[Investigation No. 731-TA-703 (Fourth Review)]

Furfuryl Alcohol From China; Determination

On the basis of the record ¹ developed in the subject five-year review, the United States International Trade Commission (“Commission”) determines, pursuant to the Tariff Act of 1930 (“the Act”), that revocation of the antidumping duty order on furfuryl alcohol from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on January 3, 2017 (82 FR 140) and determined on April 10, 2017, that it would conduct an expedited review (82 FR 23063, May 19, 2017).

The Commission made this determination pursuant to section 751(c) of the Act (19 U.S.C. 1675(c)). It completed and filed its determination in this review on July 28, 2017. The views of the Commission are contained in USITC Publication 4708 (July 2017), entitled Furfuryl Alcohol from China: Investigation No. 731-TA-703 (Fourth Review).

By order of the Commission.
Issued: July 28, 2017.
Lisa R. Barton,
Secretary to the Commission.

[FR Doc. 2017-16324 Filed 8-2-17; 8:45 am]

BILLING CODE 7020-02-P